DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2007 Census of Governments Prelist Survey of Special Districts.

Form Number(s): G-24.

Agency Approval Number: None.

Type of Request: New collection.

Burden: 750 hours.

Number of Respondents: 1,500.

Avg Hours Per Response: 30 minutes.

Needs and Uses: The Census Bureau requests Office of Management and Budget approval of data collection Form G-24. This form will be used to update the universe list of special district governments for the 2007 Census of Governments. The information requested on this form is identical to that requested in the prelist phase of the 2002 Census of Governments. The G-24 survey form will be imprinted with a list of known special districts within the areas of each of the 1,500 counties, consolidated city-county governments, and independent cities designated to receive the form. Respondents will use the G-24 form to update the listing by correcting the imprinted special district list and by reporting any additional districts. The mail canvass is supplemented by calls to the major nonrespondents. The expected response rate is 90 percent based on the response rate achieved during the 2002 Prelist Survey of Special Districts. Procedures, with the exception of using more advanced computer technology to generate the form imprinted with the list of known special districts, are the same as used for the 2002 Prelist Survey.

This form will be used to verify the existence of special districts for the 2007 Census of Governments, to obtain current addresses and to identify new districts. The quinquennial Census of Governments enumerates five types of local governments: County governments, municipal governments, township governments, school district governments, and special district governments. Lists of county, municipal and township governments are kept up-to-date through the Boundary and Annexation Survey conducted annually by the Geography Division of the Census Bureau. However, there is no national source of information on special district governments. We, therefore, enlist the help of county clerks, and similar county officials to provide information on changes in special districts, including the creation of new districts, disincorporation of existing districts, and address changes. An updated list is necessary for the subsequent phases of the Census of Governments to ensure complete coverage and minimize the number of postmaster returns and remailings caused by inaccurate addresses.

Affected Public: State, local or Tribal government.

Frequency: Every 5 years.

Respondent's Obligation: Voluntary.

Legal Authority: Title 13 U.S.C. 161.

OMB Desk Officer: Susan Schechter, (202) 395-5103.

Copies of the above information collection proposal can be obtained by calling or writing Diana Hynek, Departmental Paperwork Clearance Officer, (202)482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: April 4, 2006.
Madeleine Clayton,
Management Analyst, Office of the Chief Information Officer.

[FR Doc. E6-5158 Filed 4-7-06; 8:45 am]

BILLING CODE 3510-07-P